ENVIRONMENTAL PROTECTION AGENCY

40 CFR Part 82

[EPA-HQ-OAR-2002-0064; FRL-8683-6]

RIN 2060-AK26

Protection of Stratospheric Ozone: Listing of Substitutes for Ozone-Depleting Substances—n-Propyl Bromide in Adhesives, Coatings, and Aerosols; Notice of Data Availability

AGENCY: Environmental Protection Agency (EPA).

ACTION: Notice of data availability and request for comment period.

SUMMARY: The Environmental Protection Agency (EPA) is making available to the public information related to a May 30, 2007 proposed rule under the Significant New Alternatives Policy (SNAP) program under section 612 of the Clean Air Act. The SNAP program reviews alternatives to Class I and Class II ozone-depleting substances and finds acceptable the use of alternatives that reduce the overall risk to public health and the environment. EPA proposed to list n-propyl bromide (nPB) as unacceptable for use as a substitute for chlorofluorocarbon (CFC)-113, methyl chloroform, and hydrochlorofluorocarbon (HCFC)-141b in the adhesive and aerosol solvent end uses; and acceptable subject to use conditions (limited to coatings at facilities that, as of May 30, 2007, had provided EPA with information demonstrating their ability to maintain acceptable workplace exposures) as a substitute for methyl chloroform, CFC-113, and HCFC-141b in the coatings end use. The Agency has received additional information regarding the exposure levels of n-propyl bromide found in the workplace due to use of aerosols containing n-propyl bromide, as well as information on industry practices from aerosol suppliers and from a survey of a significant number of end users. The Agency is requesting comment on these materials. We plan to consider this information, and any comments received during the comment period on this notice of data availability, in determining what future action to take on our May 2007 proposal regarding the use of n-propyl bromide in aerosols.

DATES: Comments must be received on or before August 22, 2008.

ADDRESSES: Submit your comments, identified by Docket ID No. EPA-HQ-OAR-2002-0064, by one of the following methods:

• http://www.regulations.gov. Follow the on-line instructions for submitting comments.

• E-mail: A-And-R-Docket@epa.gov.

• Mail: Air and Radiation Docket, Environmental Protection Agency, Mail code 6102T, 1200 Pennsylvania Ave., NW., Washington, DC 20460, Attention Docket ID No. EPA-HQ-OAR-2002-0064.

• Hand Delivery: EPA Docket Center, (EPA/DC) EPA West, Room 3334, 1301 Constitution Ave., NW., Washington, DC, Attention Docket ID No. EPA-HQ-OAR-2002-0064. Such deliveries are only accepted during the Docket's normal hours of operation, and special arrangements should be made for deliveries of boxed information.

Instructions: Direct your comments to Docket ID No. EPA-HQ-OAR-2002-0064. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to section I. of the SUPPLEMENTARY INFORMATION section of this document.

Docket: All documents in the docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Air and Radiation Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1742.

FOR FURTHER INFORMATION CONTACT: Margaret Sheppard, Stratospheric Protection Division, Office of Atmospheric Programs, Mail Code 6205J, Environmental Protection Agency, 1200 Pennsylvania Ave., NW., Washington, DC 20460; telephone number (202) 343-9163; fax number (202) 343-2362; e-mail address: sheppard.margaret@epa.gov. Notices and rulemakings under the SNAP program are available on EPA's Stratospheric Ozone World Wide Web site at http://www.epa.gov/ozone/snap/regs.

SUPPLEMENTARY INFORMATION:

Table of Contents

I. What should I consider as I prepare my comments for EPA?

II. What is this action?

III. On what information is EPA requesting comment?

IV. Where can I get the data and comments being made available for comment?

V. Why is EPA requesting comment on these data and comments?

VI. What is EPA not taking comment on?

VII. What supporting documentation do I need to include in my comments?

I. What Should I Consider as I Prepare My Comments for EPA?

A. Submitting Confidential Business Information (CBI)

Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

Send or deliver information identified as CBI only by delivery service to the following address: Margaret Sheppard, U.S. EPA, 1310 L Street, NW., Room 1029, Washington DC 20005, Attention Docket ID No. EPA-HQ-OAR-2002-0064.

B. Tips for Preparing Your Comments

When submitting comments, remember to:

• Identify the rulemaking by docket number and other identifying information (subject heading, Federal Register (FR) date, and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

C. How Can I Get Copies of Related Information?

The specific public comments and data on which EPA is taking comment are available in Docket ID No. EPA-HQ-OAR-2002-0064 (continuation of Air Docket A-91-42). The physical address for EPA's docket is discussed above in the ADDRESSES section of this action. These documents and other information concerning EPA's May 30, 2007 proposed rulemaking are available electronically through http://www.regulations.gov, as discussed above in the ADDRESSES section of this action. If you have any questions about CBI or the procedures for claiming CBI, please consult the person identified in the FOR FURTHER INFORMATION CONTACT section.

II. What Is This Action?

We are requesting comment on additional information received during and after the public comment period concerning industry practices and workplace exposure levels of n-propyl bromide when it is used as an aerosol solvent. The May 30, 2007 proposed rule, 72 FR 30168, proposed to list the chemical n-propyl bromide as an unacceptable substitute for methyl chloroform (1,1,1-trichloroethane), CFC-113 (1,1,2-trifluoro-1,2,2-trichloroethane), and HCFC-141b (1,1-dichloro-1-fluoroethane) when used in aerosol solvents. EPA proposed that nPB in this end use poses unacceptable risks to human health when compared with other substitutes that are available. In addition, EPA took comment on alternate options that would find nPB acceptable subject to use conditions in aerosol solvents.

In response to the May, 2007 proposal, EPA received public comments, which have been made available to the public through docket EPA-HQ-OAR-2002-0064. Most of these comments concerned the Agency's proposal to find nPB unacceptable in aerosols.¹ In the proposal, we stated: “EPA's greatest concern with nPB-based aerosols is that users of nPB as an aerosol solvent cannot reliably maintain exposures at sufficiently low levels to ensure that workers are protected. This finding is based on measured exposure data and model estimations indicating the likelihood of elevated concentrations associated with nPB-based aerosols given typical ventilation conditions.” (72 FR 30188)

¹ Comments were also received on the other two aspects of that proposal which concerned nPB as a substitute for methyl chloroform, CFC-113, and HCFC-141b in the adhesives and coatings end uses.

III. On What Information Is EPA Requesting Comment?

EPA is requesting comment on the public comments and data in the following documents in:

Docket EPA-HQ-OAR-2002-0064:

• July 30, 2007 Comments submitted by D. Douglas Fratz, Vice President, Scientific and Technical Affairs, and Andrew R. Hackman, Manager, State Affairs Programs, Consumer Specialty Products Association (CSPA) and attachments—docket items EPA-HQ-OAR-2002-0064-0319 and EPA-HQ-OAR-2002-0064-0319.1.

• November 16, 2007 Supplemental Comments submitted by D. Douglas Fratz, Vice President, Scientific & Technical Affairs and Andrew Hackman, Manager, State Affairs Programs, CSPA and attachments—docket items EPA-HQ-OAR-2002-0064-0327, EPA-HQ-OAR-2002-0064-0327.1, and EPA-HQ-OAR-2002-0064-0327.2.

• E-mail exchanges between M. Sheppard, EPA, and A. Hackman, CSPA—docket items EPA-HQ-OAR-2002-0064-0340, EPA-HQ-OAR-2002-0064-0341, EPA-HQ-OAR-2002-0064-0342, and EPA-HQ-OAR-2002-0064-0344.

IV. Where Can I Get the Data and Comments Being Made Available for Comment?

All of the data on which we are seeking comment can be obtained through docket EPA-HQ-OAR-2002-0064 at http://www.regulations.gov. You also can find this information in hard copy through EPA's Air and Radiation Docket in the Public Reading Room at the address given in the ADDRESSES section above.

V. Why Is EPA Requesting Comment on These Data and Comments?

We are soliciting comment on this new information to ensure that we use the best information available when we determine how to proceed on our May 2007 proposal, in which we proposed to list nPB as unacceptable in the aerosol solvent end use. The information which we are seeking comment on will be considered by EPA in determining how to proceed on our proposal and because it substantially expands data for this end use beyond the information the Agency had available at the time we issued the proposed rule, the Agency is now providing the public with an opportunity to comment on the quality, accuracy and representativeness of the information. We will consider this information, along with other data and public comments also available in the public docket, to move forward with a final rulemaking concerning nPB in the aerosol solvent end use.

VI. What Is EPA Not Taking Comment On?

EPA is not taking additional comment on exposure data or industry practices in end uses of adhesives and coatings. EPA is only taking on comment in the end use of aerosol solvents. Furthermore, we are only accepting comments on the quality, accuracy, and representativeness of the information and comments described in this action.

VII. What Supporting Documentation Do I Need To Include in My Comments?

Please provide any information or data supporting your comments, particularly information on exposure levels, the amount of nPB usage, and ventilation levels when nPB is used as an aerosol solvent.

Dated: June 4, 2008.
Brian McLean,
Director, Office of Atmospheric Programs, Office of Air and Radiation.

[FR Doc. E8-14103 Filed 6-20-08; 8:45 am]

BILLING CODE 6560-50-P